DEPARTMENT OF ENERGY

Federal Energy Regulatory Commission

Combined Notice of Filings

Take notice that the Commission has received the following Natural Gas Pipeline Rate and Refund Report filings:

Filings Instituting Proceedings

Docket Number: PR19-61-000.

Applicants: Louisville Gas and Electric Company.

Description: Tariff filing per 284.123(b),(e)/: Revised Statement of Operating Conditions to be effective 5/1/2019.

Filed Date: 5/23/19.

Accession Number: 201905235129.

Comments/Protests Due: 5 p.m. ET 6/13/19.

Docket Number: PR19-62-000.

Applicants: Columbia Gas of Maryland, Inc.

Description: Tariff filing per 284.123(b),(e)/: CMD Rates effective May 8 2019.

Filed Date: 5/28/19.

Accession Number: 201905285101.

Comments/Protests Due: 5 p.m. ET 6/18/19.

Docket Number: PR19-63-000.

Applicants: Centana Intrastate Pipeline, LLC.

Description: Tariff filing per 284.123(b),(e)/: CIPCO SOC Nomination Time Change Filing to be effective 4/1/2016.

Filed Date: 5/30/19.

Accession Number: 201905305221.

Comments/Protests Due: 5 p.m. ET 6/13/19.

Docket Number: PR19-64-000.

Applicants: Southern California Gas Company.

Description: Tariff filing per 284.123(b),(e)+(g): Offshore_Delivery_Service_Rate_Revision_May_2019 to be effective 5/1/2019.

Filed Date: 5/30/19.

Accession Number: 201905305300.

Comments Due: 5 p.m. ET 6/20/19.

284.123(g) Protests Due: 5 p.m. ET 7/29/19.

Docket Numbers: RP19-1195-001.

Applicants: Texas Gas Transmission, LLC.

Description: Texas Gas Transmission, LLC submits tariff filing per 154.205(b): Amendment to RP19-1195 to be effective 5/1/2019 under RP19-1195.

Filed Date: 05/30/2019.

Accession Number: 20190530-5166.

Comment Date: 5:00 p.m. ET 6/11/19.

Docket Numbers: RP19-1248-000.

Applicants: NEXUS Gas Transmission, LLC.

Description: NEXUS Gas Transmission, LLC submits tariff filing per 154.204: Negotiated Rates—Columbia Gas 860005 June 1 Releases to be effective 6/1/2019.

Filed Date: 05/30/2019.

Accession Number: 20190530-5005.

Comment Date: 5:00 p.m. ET 6/11/19.

Docket Numbers: RP19-1249-000.

Applicants: Texas Eastern Transmission, LP.

Description: Texas Eastern Transmission, LP submits tariff filing per 154.204: Negotiated Rates—MC Global 6-1-2019 Releases to be effective 6/1/2019.

Filed Date: 05/30/2019.

Accession Number: 20190530-5020.

Comment Date: 5:00 p.m. ET 6/11/19.

Docket Numbers: RP19-1250-000.

Applicants: Texas Eastern Transmission, LP.

Description: Texas Eastern Transmission, LP submits tariff filing per 154.204: Negotiated rate—Center point to Range 8957691 eff 6-1-19 to be effective 6/1/2019.

Filed Date: 05/30/2019.

Accession Number: 20190530-5021.

Comment Date: 5:00 p.m. ET 6/11/19.

Docket Numbers: RP19-1251-000.

Applicants: Algonquin Gas Transmission, LLC.

Description: Algonquin Gas Transmission, LLC submits tariff filing per 154.204: Negotitated Rate—NSTAR release to SFE Energy 799340 eff 6-1-19 to be effective 6/1/2019.

Filed Date: 05/30/2019.

Accession Number: 20190530-5086.

Comment Date: 5:00 p.m. ET 6/11/19.

Docket Numbers: RP19-1252-000.

Applicants: Transcontinental Gas Pipe Line Company, LLC.

Description: Transcontinental Gas Pipe Line Company, LLC submits tariff filing per 154.204: Negotiated Rates—Cherokee AGL—Replacement Shippers—Jun 2019 to be effective 6/1/2019.

Filed Date: 05/30/2019.

Accession Number: 20190530-5122.

Comment Date: 5:00 p.m. ET 6/11/19.

Docket Numbers: RP19-1253-000.

Applicants: Algonquin Gas Transmission, LLC.

Description: Algonquin Gas Transmission, LLC submits tariff filing per 154.204: Negotiated Rate—Bay releases to BBPC eff 6-1-19 to be effective 6/1/2019.

Filed Date: 05/30/2019.

Accession Number: 20190530-5144.

Comment Date: 5:00 p.m. ET 6/11/19.

Docket Numbers: RP19-1254-000.

Applicants: Northwest Pipeline LLC.

Description: Northwest Pipeline LLC submits tariff filing per 154.204: Housekeeping 2019 Mid-Year to be effective 7/1/2019.

Filed Date: 05/30/2019.

Accession Number: 20190530-5167.

Comment Date: 5:00 p.m. ET 6/11/19.

Docket Numbers: RP19-1255-000.

Applicants: TransColorado Gas Transmission Company LLC.

Description: TransColorado Gas Transmission Company LLC submits tariff filing per 154.403(d)(2): Qrtly FLU Update to be effective 7/1/2019.

Filed Date: 05/30/2019.

Accession Number: 20190530-5178.

Comment Date: 5:00 p.m. ET 6/11/19.

Docket Numbers: RP19-1256-000.

Applicants: Colorado Interstate Gas Company, L.L.C.

Description: Colorado Interstate Gas Company, L.L.C. submits tariff filing per 154.403(d)(2): Quarterly LUF Update FIling to be effective 7/1/2019.

Filed Date: 05/30/2019.

Accession Number: 20190530-5196.

Comment Date: 5:00 p.m. ET 6/11/19.

Docket Numbers: RP19-1257-000.

Applicants: Dauphin Island Gathering Partners.

Description: Dauphin Island Gathering Partners submits tariff filing per 154.204: Negotiated Rate Filing WT 5-30-2019 to be effective 6/1/2019.

Filed Date: 05/30/2019.

Accession Number: 20190530-5214.

Comment Date: 5:00 p.m. ET 6/11/19.

Docket Numbers: RP19-1258-000.

Applicants: Colorado Interstate Gas Company, L.L.C.

Description: Colorado Interstate Gas Company, L.L.C. submits tariff filing per 154.204: Non-Conforming Agreement Filing—Black Hills NW Wyoming Gas Utility Co #214677 to be effective 7/1/2019

Filed Date: 05/30/2019.

Accession Number: 20190530-5217.

Comment Date: 5:00 p.m. ET 6/11/19.

Docket Numbers: RP19-1259-000.

Applicants: El Paso Natural Gas Company, L.L.C.

Description: El Paso Natural Gas Company, L.L.C. submits tariff filing per 154.601: Negotiated Rate Agreement Update (APS June 2019) to be effective 6/1/2019.

Filed Date: 05/30/2019.

Accession Number: 20190530-5218.

Comment Date: 5:00 p.m. ET 6/11/19.

Docket Numbers: RP19-1260-000.

Applicants: Eastern Shore Natural Gas Company.

Description: Eastern Shore Natural Gas Company submits tariff filing per 154.204: Fuel Retention and Cash-Out Adjustment 2019 to be effective 7/1/2019.

Filed Date: 05/30/2019.

Accession Number: 20190530-5344.

Comment Date: 5:00 p.m. ET 6/11/19.

Docket Numbers: RP18-1167-003.

Applicants: Equitrans, L.P.

Description: Equitrans, L.P. submits tariff filing per 154.203: 2019 Settlement—Compliance Filing to be effective 6/1/2019.

Filed Date: 05/31/2019.

Accession Number: 20190531-5207.

Comment Date: 5:00 p.m. ET 6/12/19.

Docket Numbers: RP18-940-006.

Applicants: Empire Pipeline, Inc.

Description: Empire Pipeline, Inc. submits tariff filing per 154.203: Empire Rate Case Settlement Compliance Filing to be effective 7/3/2019.

Filed Date: 05/31/2019.

Accession Number: 20190531-5255.

Comment Date: 5:00 p.m. ET 6/12/19.

Docket Numbers: RP19-1261-000.

Applicants: Equitrans, L.P.

Description: Equitrans, L.P. submits tariff filing per 154.601: Negotiated Retainage Agreement 6-1-2019 to be effective 6/1/2019.

Filed Date: 05/31/2019.

Accession Number: 20190531-5033.

Comment Date: 5:00 p.m. ET 6/12/19.

Docket Numbers: RP19-1262-000.

Applicants: Texas Eastern Transmission, LP.

Description: Texas Eastern Transmission, LP submits tariff filing per 154.204: Negotiated Rate—Range to Castleton 8957873 eff 6-1-19 to be effective 6/1/2019.

Filed Date: 05/31/2019.

Accession Number: 20190531-5048.

Comment Date: 5:00 p.m. ET 6/12/19.

Docket Numbers: RP19-1263-000.

Applicants: Millennium Pipeline Company, LLC.

Description: Millennium Pipeline Company, LLC submits tariff filing per 154.204: Negotiated Rate Amd—DTE to be effective 6/1/2019.

Filed Date: 05/31/2019.

Accession Number: 20190531-5073.

Comment Date: 5:00 p.m. ET 6/12/19.

Docket Numbers: RP19-1264-000.

Applicants: Kinder Morgan Louisiana Pipeline LLC.

Description: Kinder Morgan Louisiana Pipeline LLC submits tariff filing per 154.403(d)(2): Periodic Rate Adjustment—Fuel and Unaccounted for Gas Tracker to be effective 7/1/2019.

Filed Date: 05/31/2019.

Accession Number: 20190531-5074.

Comment Date: 5:00 p.m. ET 6/12/19.

Docket Numbers: RP19-1265-000.

Applicants: MarkWest Pioneer, L.L.C.

Description: MarkWest Pioneer, L.L.C. submits tariff filing per 154.403(d)(2): Quarterly Fuel Adjustment Filing to be effective 7/1/2019.

Filed Date: 05/31/2019.

Accession Number: 20190531-5098.

Comment Date: 5:00 p.m. ET 6/12/19.

Docket Numbers: RP19-1266-000.

Applicants: NEXUS Gas Transmission, LLC.

Description: NEXUS Gas Transmission, LLC submits tariff filing per 154.204: Negotitated Rate—CNX 860004 releases eff 6-1-19 to be effective 6/1/2019.

Filed Date: 05/31/2019.

Accession Number: 20190531-5138.

Comment Date: 5:00 p.m. ET 6/12/19.

Docket Numbers: RP19-1267-000.

Applicants: Equitrans, L.P.

Description: Equitrans, L.P. submits tariff filing per 154.204: Negotiated Rate Service Agreements 6-1-2019 to be effective 6/1/2019.

Filed Date: 05/31/2019.

Accession Number: 20190531-5142.

Comment Date: 5:00 p.m. ET 6/12/19.

Docket Numbers: RP19-1268-000.

Applicants: NEXUS Gas Transmission, LLC.

Description: NEXUS Gas Transmission, LLC submits tariff filing per 154.204: Negotiated Rate—BP Energy to BP Canada eff 6-1-19 to be effective 6/1/2019.

Filed Date: 05/31/2019.

Accession Number: 20190531-5162.

Comment Date: 5:00 p.m. ET 6/12/19.

Docket Numbers: RP19-1269-000.

Applicants: Crossroads Pipeline Company.

Description: Crossroads Pipeline Company submits tariff filing per 154.204: PAL Housekeeping to be effective 7/1/2019.

Filed Date: 05/31/2019.

Accession Number: 20190531-5200.

Comment Date: 5:00 p.m. ET 6/12/19.

Docket Numbers: RP19-1270-000.

Applicants: Cheniere Corpus Christi Pipeline, LP.

Description: Cheniere Corpus Christi Pipeline, LP submits tariff filing per 154.204: EPC—Usage Clarification to be effective 7/1/2019.

Filed Date: 05/31/2019.

Accession Number: 20190531-5201.

Comment Date: 5:00 p.m. ET 6/12/19.

Docket Numbers: RP19-1271-000.

Applicants: Gulf South Pipeline Company, LP.

Description: Gulf South Pipeline Company, LP submits tariff filing per 154.204: Remove internet website Agreement Pro Forma From Tariff to be effective 7/1/2019.

Filed Date: 05/31/2019.

Accession Number: 20190531-5208.

Comment Date: 5:00 p.m. ET 6/12/19.

Docket Numbers: RP19-1272-000.

Applicants: Gulf South Pipeline Company, LP.

Description: Gulf South Pipeline Company, LP submits tariff filing per 154.204: Cap Rel Neg Rate Agmts (Atlanta Gas 8438 releases eff 6-1-2019) to be effective 6/1/2019.

Filed Date: 05/31/2019.

Accession Number: 20190531-5210.

Comment Date: 5:00 p.m. ET 6/12/19.

Docket Numbers: RP19-1273-000.

Applicants: Gulf South Pipeline Company, LP.

Description: Gulf South Pipeline Company, LP submits tariff filing per 154.204: Amendment & Cap Rel Neg Rate Agmts (Aethon 37657, 50488 to Scona 51155, 51160) to be effective 6/1/2019.

Filed Date: 05/31/2019.

Accession Number: 20190531-5211.

Comment Date: 5:00 p.m. ET 6/12/19.

Docket Numbers: RP19-1274-000.

Applicants: Gulf South Pipeline Company, LP.

Description: Gulf South Pipeline Company, LP submits tariff filing per 154.203: Compliance Rate Filing in Docket No. CP17-476-000 (Westlake Project) to be effective 8/1/2019.

Filed Date: 05/31/2019.

Accession Number: 20190531-5220.

Comment Date: 5:00 p.m. ET 6/12/19.

Docket Numbers: RP19-1275-000.

Applicants: Gulf South Pipeline Company, LP.

Description: Gulf South Pipeline Company, LP submits tariff filing per 154.203: Compliance Tariff Filing in Docket No. CP17-476-000 (Westlake Project) to be effective 8/1/2019.

Filed Date: 05/31/2019.

Accession Number: 20190531-5227.

Comment Date: 5:00 p.m. ET 6/12/19.

Docket Numbers: RP19-1276-000.

Applicants: Equitrans, L.P.

Description: Equitrans, L.P. submits tariff filing per 154.204: Equitrans' Clean Up Filing—May 2019 to be effective 7/1/2019.

Filed Date: 05/31/2019.

Accession Number: 20190531-5231.

Comment Date: 5:00 p.m. ET 6/12/19.

Docket Numbers: RP19-1277-000.

Applicants: Dauphin Island Gathering Partners.

Description: Dauphin Island Gathering Partners submits tariff filing per 154.204: Tariff Sections Update—Contracts Consolidation to be effective 7/1/2019.

Filed Date: 05/31/2019.

Accession Number: 20190531-5281.

Comment Date: 5:00 p.m. ET 6/12/19.

Docket Numbers: RP19-1278-000.

Applicants: North Baja Pipeline, LLC.

Description: North Baja Pipeline, LLC submits tariff filing per 154.601: June Sempra Negotiated Rate Agreement to be effective 6/1/2019.

Filed Date: 05/31/2019.

Accession Number: 20190531-5253.

Comment Date: 5:00 p.m. ET 6/12/19.

Docket Numbers: RP19-1279-000.

Applicants: Wyoming Interstate Company, L.L.C.

Description: Wyoming Interstate Company, L.L.C. submits tariff filing per 154.601: Non-Conforming Agreement Update (CLFP) to be effective 7/1/2019.

Filed Date: 05/31/2019.

Accession Number: 20190531-5260.

Comment Date: 5:00 p.m. ET 6/12/19.

Docket Numbers: RP19-1280-000.

Applicants: Algonquin Gas Transmission, LLC.

Description: Algonquin Gas Transmission, LLC submits tariff filing per 154.204: Negotiated Rate—NSTAR to BPE 799380 eff 6-1-19 to be effective 6/1/2019.

Filed Date: 05/31/2019.

Accession Number: 20190531-5267.

Comment Date: 5:00 p.m. ET 6/12/19.

Docket Numbers: RP19-1281-000.

Applicants: Cheyenne Plains Gas Pipeline Company, L.L.C.

Description: Cheyenne Plains Gas Pipeline Company, L.L.C. submits tariff filing per 154.204: Billing and Payment Update to be effective 7/1/2019.

Filed Date: 05/31/2019.

Accession Number: 20190531-5342.

Comment Date: 5:00 p.m. ET 6/12/19.

Docket Numbers: RP19-1282-000.

Applicants: Colorado Interstate Gas Company, L.L.C.

Description: Colorado Interstate Gas Company, L.L.C. submits tariff filing per 154.204: Billing and Payment Update Filing to be effective 7/1/2019.

Filed Date: 05/31/2019.

Accession Number: 20190531-5343.

Comment Date: 5:00 p.m. ET 6/12/19.

Docket Numbers: RP19-1283-000.

Applicants: Ruby Pipeline, L.L.C.

Description: Ruby Pipeline, L.L.C. submits tariff filing per 154.204: Billing and Payment Update to be effective 7/1/2019.

Filed Date: 05/31/2019.

Accession Number: 20190531-5344.

Comment Date: 5:00 p.m. ET 6/12/19.

Docket Numbers: RP19-1284-000.

Applicants: Sierrita Gas Pipeline LLC.

Description: Sierrita Gas Pipeline LLC submits tariff filing per 154.204: Billing and Payment Update to be effective 7/1/2019.

Filed Date: 05/31/2019.

Accession Number: 20190531-5346.

Comment Date: 5:00 p.m. ET 6/12/19.

Docket Numbers: RP19-1285-000.

Applicants: TransColorado Gas Transmission Company LLC.

Description: TransColorado Gas Transmission Company LLC submits tariff filing per 154.204: Billing and Payment Update and Housekeeping Filing to be effective 7/1/2019.

Filed Date: 05/31/2019.

Accession Number: 20190531-5364.

Comment Date: 5:00 p.m. ET 6/12/19.

Docket Numbers: RP19-1286-000.

Applicants: Wyoming Interstate Company, L.L.C.

Description: Wyoming Interstate Company, L.L.C. submits tariff filing per 154.204: Billing and Payment Update to be effective 7/1/2019.

Filed Date: 05/31/2019.

Accession Number: 20190531-5373.

Comment Date: 5:00 p.m. ET 6/12/19.

Docket Numbers: RP19-1287-000.

Applicants: Young Gas Storage Company, Ltd.

Description: Young Gas Storage Company, Ltd. submits tariff filing per 154.204: Billing and Payment Update to be effective 7/1/2019.

Filed Date: 05/31/2019.

Accession Number: 20190531-5376.

Comment Date: 5:00 p.m. ET 6/12/19.

Docket Numbers: RP19-1288-000.

Applicants: Equitrans, L.P.

Description: Equitrans, L.P. submits tariff filing per 154.601: Negotiated Rate Agreement—Revised Triad Hunter FTS Agreement to be effective 6/1/2019.

Filed Date: 05/31/2019.

Accession Number: 20190531-5422.

Comment Date: 5:00 p.m. ET 6/12/19.

Docket Numbers: RP19-1289-000.

Applicants: Columbia Gas Transmission, LLC.

Description: Columbia Gas Transmission, LLC submits tariff filing per 154.601: TCO June Negotiated Rate Agreements to be effective 6/1/2019.

Filed Date: 05/31/2019.

Accession Number: 20190531-5475.

Comment Date: 5:00 p.m. ET 6/12/19.

Docket Numbers: RP19-1290-000.

Applicants: Columbia Gulf Transmission, LLC.

Description: Columbia Gulf Transmission, LLC submits tariff filing per 154.601: June Negotiated Rate Agreement Filing to be effective 6/1/2019.

Filed Date: 05/31/2019.

Accession Number: 20190531-5477.

Comment Date: 5:00 p.m. ET 6/12/19.

Docket Numbers: RP19-1291-000.

Applicants: Paiute Pipeline Company.

Description: Paiute Pipeline Company submits tariff filing per 154.204: 2019 Rate Case to be effective 7/1/2019.

Filed Date: 05/31/2019.

Accession Number: 20190531-5486.

Comment Date: 5:00 p.m. ET 6/12/19.

Docket Numbers: RP19-1292-000.

Applicants: Northern Natural Gas Company.

Description: Northern Natural Gas Company submits tariff filing per 154.204: 20190531 Negotiated Rates to be effective 6/1/2019.

Filed Date: 05/31/2019.

Accession Number: 20190531-5488.

Comment Date: 5:00 p.m. ET 6/12/19.

Docket Numbers: RP19-352-001.

Applicants: Sea Robin Pipeline Company, LLC.

Description: Sea Robin Pipeline Company, LLC submits tariff filing per 154.206: RP19-352 Motion Rates into Effect to be effective 6/1/2019.

Filed Date: 05/31/2019.

Accession Number: 20190531-5118.

Comment Date: 5:00 p.m. ET 6/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2019.
Nathaniel J. Davis, Sr.,
Deputy Secretary.

[FR Doc. 2019-12049 Filed 6-6-19; 8:45 am]

BILLING CODE 6717-01-P